DEPARTMENT OF COMMERCE

Foreign-Trade Zones Board

[B-20-2025]

Production Activity Not Authorized; Foreign-Trade Zone (FTZ) 29; Logitech; (Audio, Visual, and Gaming Equipment); Shepherdsville, Kentucky

On March 27, 2025, on behalf of Logitech, Arvato USA, LLC submitted a notification of proposed production activity to the FTZ Board for its facility within FTZ 29, in Shepherdsville, Kentucky.

The notification was processed in accordance with the regulations of the FTZ Board (15 CFR part 400), including notice in the Federal Register inviting public comment (90 FR 14779, April 4, 2025). On November 14, 2025, the applicant was notified of the FTZ Board's decision that further review of the activity is warranted. The production activity described in the notification was not authorized. If the applicant wishes to seek authorization for this activity, it will need to submit an application for production authority, pursuant to section 400.23.

Dated: November 24, 2025.
Elizabeth Whiteman,
Executive Secretary.

[FR Doc. 2025-21300 Filed 11-25-25; 8:45 am]

BILLING CODE 3510-DS-P